DEPARTMENT OF HOUSING AND URBAN DEVELOPMENT

[Docket No. FR-5486-N-20]

Notice of Proposed Information Collection for Public Comment: United States Postal Service Vacancy Data User Verification Page

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due: October 28, 2011.

ADDRESSES: Interested persons are invited to submit comments regarding this proposal. Comments should refer to the proposal by name and/or OMB Control number and should be sent to: Reports Liaison Officer, Office of Policy Development and Research, Department of Housing and Urban Development, 451 7th Street, SW., Room 8226, Washington, DC 20410-5000.

FOR FURTHER INFORMATION CONTACT: Dwight M. Jefferson, (202) 402-5932 for copies of the proposed forms and other available documents. (This is not a toll-free number.)

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: United States Postal Service Vacancy Data User Verification Page.

Description of the need for the information and proposed use: This request is for the clearance of a Web-based application that collects information from indivuals seeking to download from HUD for research purposes proprietary USPS data on vacant addresses in the United States. The purpose of the information collection is to verify that individuals requesting the USPS vacancy data represent government, academic, and non-profit research institutions—permitted sub-licensees under the HUD/USPS Inter-Agency Agreement—and are, therefore permitted to sub-license the data from HUD. Information that will be gathered consists of the name and email of the requestor, and the name, address, telephone number, the type of organization the requestor represents, and the nature of the research for which the data will be used. The information collected will be stored in a database and will be used to create user IDs and passwords for authenticated users. This information collection will last as long as USPS allows HUD to sub-license its vacancy data to permitted third parties under the agreement.

OMB Approval Number: Pending.

Agency form numbers: None.

Members of Affected Public: It is estimated roughly 7,000 unique users will request access to the data through the Web site in the first year.

Estimation of the total number of hours needed to prepare the information collection including number of respondents, frequency of response, and hours of response: Less than 5 minutes per individual requestor.

Status of the proposed information collection: Pending OMB approval.

Authority: U.S. Code 12, 1701z-1, Research and demonstrations.

Dated: August 19, 2011.
Jean Lin Pao,
General Deputy Assistant Secretary for Policy, Development and Research.

[FR Doc. 2011-22031 Filed 8-26-11; 8:45 am]

BILLING CODE 4210-67-P